DEPARTMENT OF JUSTICE

Notice of Lodging of Proposed Consent Decree

In accordance with Departmental Policy, 28 CFR 50.7, notice is hereby given that a proposed Consent Decree in United States v. Villegas, Civil Action No. 1:24-cv-962, was lodged with the United States District Court for the District of Colorado on April 10, 2024.

This proposed Consent Decree concerns a complaint filed by the United States against Defendants Thomas and Amy Villegas, pursuant to 33 U.S.C. 1311(a) and 33 U.S.C. 1319(b), to obtain injunctive relief from the Defendants for violating the Clean Water Act by discharging pollutants without a permit into waters of the United States. The Clean Water Act violations concern filling, grading, and excavation activities conducted in Lincoln County, Nebraska, along a braided channel of the Platte River. The proposed Consent Decree resolves these allegations by requiring the Defendants to restore impacted areas.

The Department of Justice will accept written comments relating to this proposed Consent Decree for thirty (30) days from the date of publication of this Notice. Please address comments by mail to Phillip Dupré, United States Department of Justice, Environment and Natural Resources Division, Environmental Defense Section, Post Office Box 7611, Washington, DC 20044, or by email to pubcomment_eds.enrd@usdoj.gov and refer to United States v. Villegas, DJ No. 90-5-1-1-22164.

The proposed Consent Decree may be examined at the Clerk's Office, United States District Court for the District of Colorado, 901 19th Street, Denver, CO 80294. In addition, the proposed Consent Decree may be examined electronically at https://www.justice.gov/enrd/consent-decrees.

Cherie Rogers,
Assistant Section Chief, Environmental Defense Section, Environment and Natural Resources Division.

[FR Doc. 2024-07995 Filed 4-15-24; 8:45 am]

BILLING CODE P